DEPARTMENT OF DEFENSE

Office of the Secretary

[Transmittal No. 25-22]

Arms Sales Notification

AGENCY: Defense Security Cooperation Agency, Department of Defense (DoD).

ACTION: Arms sales notice.

SUMMARY: The DoD is publishing the unclassified text of an arms sales notification.

FOR FURTHER INFORMATION CONTACT: Urooj Zahra at (703) 695-6233, urooj.zahra.civ@mail.mil, or dsca.ncr.rsrcmgmt.list.cns-mbx@mail.mil.

SUPPLEMENTARY INFORMATION: This 36(b) arms sales notification is published to fulfill the requirements of section 155 of Public Law 104-164 dated July 21, 1996. The following is a copy of a letter to the Speaker of the House of Representatives with attached Transmittal 25-22, Policy Justification, and Sensitive of Technology.

Dated: January 12, 2026.
Stephanie J. Bost,
Alternate OSD Federal Register Liaison Officer, Department of Defense.

BILLING CODE 6001-FR-P

BILLING CODE 6001-FR-C

Transmittal No. 25-22

Notice of Proposed Issuance of Letter of Offer Pursuant to Section 36(b)(1) of the Arms Export Control Act, as amended

(i) Prospective Purchaser: Government of India

(ii) Total Estimated Value:

Major Defense Equipment * | $ 0
Other | $131 million
TOTAL | $131 million

Funding Source: National Funds

(iii) Description and Quantity or Quantities of Articles or Services under Consideration for Purchase:

Major Defense Equipment (MDE):

None

Non-Major Defense Equipment:

SeaVision software (including requested software enhancements); Technical Assistance Field Team (TAFT) training; remote software and analytic support; access to SeaVision documentation; and other related elements of logistics and program support.

(iv) Military Department: Navy (IN-P-LBM)

(v) Prior Related Cases, if any: None

(vi) Sales Commission, Fee, etc., Paid, Offered, or Agreed to be Paid: None known at this time

(vii) Sensitivity of Technology Contained in the Defense Article or Defense Services Proposed to be Sold: See Attached Annex

(viii) Date Report Delivered to Congress: April 30, 2025

* as defined in Section 47(6) of the Arms Export Control Act.

POLICY JUSTIFICATION

India—Indo-Pacific Maritime Domain Awareness

The Government of India has requested to buy SeaVision software (including requested software enhancements); Technical Assistance Field Team (TAFT) training; remote software and analytic support; access to SeaVision documentation; and other related elements of logistics and program support. The estimated total cost is $131 million.

This proposed sale will support the foreign policy and national security objectives of the U.S. by helping to strengthen the U.S.-Indian strategic relationship and to improve the security of a major defense partner which continues to be an important force for political stability, peace, and economic progress in the Indo-Pacific and South Asia regions.

The proposed sale will improve India's capability to meet current and future threats by bolstering its maritime domain awareness, analytical capabilities, and strategic posture. India will have no difficulty absorbing these articles and services into its armed forces.

The proposed sale of this equipment and support will not alter the basic military balance in the region.

The principal contractor will be Hawkeye 360, located in Herndon, VA. At this time, the U.S. Government is not aware of any offset agreement proposed in connection with this potential sale. Any offset agreement will be defined in negotiations between the purchaser and the contractor.

Implementation of this proposed sale will not require the assignment of any additional U.S. Government or contractor representatives to India.

There will be no adverse impact on U.S. defense readiness as a result of this proposed sale.

Transmittal No. 25-22

Notice of Proposed Issuance of Letter of Offer Pursuant to Section 36(b)(1) of the Arms Export Control Act

Annex

Item No. vii

(vii) Sensitivity of Technology:

1. SeaVision is a web-based maritime situational awareness tool that enables users to view and share a broad array of maritime information to improve maritime operations, increase maritime security, and build partnerships within the maritime community. As part of its alignment with the Indo-Pacific Maritime Domain Awareness (IPMDA) initiative, SeaVision provides access to available commercial data sources, including commercial radio frequency (RF), Automatic Identification System (AIS), imagery, and ship registry data. This sale also offers Technical Assistance Field Team (TAFT) training, remote software and analytic support, and comprehensive SeaVision documentation to further enhance maritime domain awareness and cooperation.

2. The highest level of classification of defense articles, components, and services included in this potential sale is UNCLASSIFIED.

3. If a technologically advanced adversary were to obtain knowledge of the specific hardware and software elements, the information could be used to develop countermeasures that might reduce system effectiveness or be used in the development of a system with similar or advanced capabilities.

4. A determination has been made that India can provide substantially the same degree of protection for the sensitive technology being released as the U.S. Government. This sale is necessary in furtherance of the U.S. foreign policy and national security objectives outlined in the Policy Justification.

5. All defense articles and services listed in this transmittal have been authorized for release and export to the Government of India.

[FR Doc. 2026-00710 Filed 1-14-26; 8:45 am]

BILLING CODE 6001-FR-P